DEPARTMENT OF AGRICULTURE

Forest Service, USDA

Notice of Modoc County RAC Meetings

SUMMARY: Pursuant to the authorities in the Federal Advisory Committees Act (Public Law 92-463) and under the Secure Rural Schools and Community Self-Determination Act of 2000 (Public Law 106-393), the Modoc National Forest's Modoc County Resource Advisory Committee will meet Monday January 5, 2004 from 6 to 8 p.m. in Alturas, California. The meeting is open to the public.

SUPPLEMENTARY INFORMATION: Agenda topics for the meeting include approval of the November 3, 2003 minutes, quarterly review of projects approved, consideration of a modification to the Sugar Hill project, and election of new officers. The meeting will be held at Modoc National Forest Office, Conference Room, 800 West 12th St., Alturas, California on Monday, January 3, 2004 from 6 to 8 p.m. Time will be set aside for public comments at the beginning of the meeting.

FOR FURTHER INFORMATION CONTACT: Forest Supervisor Stan Sylva, at (530) 233-8700; or Public Affairs Officer Nancy Gardner at (530) 233-8713.

Stanley G. Sylva,
Forest Supervisor.

[FR Doc. 03-30993 Filed 12-15-03; 8:45 am]

BILLING CODE 3410-11-P